ENVIRONMENTAL PROTECTION AGENCY

[FRL-9216-5]

Approval of a Petition for Exemption From Hazardous Waste Disposal Injection Restrictions to ArcelorMittal Burns Harbor, LLC, Burns Harbor, IN

AGENCY: Environmental Protection Agency.

ACTION: Notice of final decision on petition.

SUMMARY: Notice is hereby given by the United States Environmental Protection Agency (EPA) that an exemption to the land disposal restrictions under the 1984 Hazardous and Solid Waste Amendments (HSWA) to the Resource Conservation and Recovery Act (RCRA) has been granted to ArcelorMittal Burns Harbor, LLC (AMBH) of Burns Harbor, Indiana, for three Class I injection wells located in Burns Harbor, Indiana. As required by 40 CFR part 148, AMBH has demonstrated, to a reasonable degree of certainty, that there will be no migration of hazardous constituents out of the injection zone or into an underground source of drinking water (USDW) for at least 10,000 years. This final decision allows the continued underground injection by AMBH of a specific restricted waste, Spent Pickle Liquor (code K062 under 40 CFR part 261), into one Class I hazardous waste injection well specifically identified as Spent Pickle Liquor No. 1; and of waste ammonia liquor (codes D010, D018 or D038 under 40 CFR part 261), into two Class I hazardous injection wells specifically identified as Waste Ammonia Liquor No. 1 and Waste Ammonia Liquor No. 2 at the AMBH facility. This decision constitutes a final EPA action for which there is no administrative appeal process.

DATES: This action is effective as of October 25, 2010.

FOR FURTHER INFORMATION CONTACT: William Bates, Lead Petition Reviewer, EPA, Region 5, telephone (312) 886-6110. Copies of the petition and all pertinent information relating thereto are on file and are part of the Administrative Record. It is recommended that you contact the lead reviewer prior to reviewing the Administrative Record.

SUPPLEMENTARY INFORMATION:

Background

AMBH submitted a petition for renewal of an existing exemption from the land disposal restrictions of hazardous waste on March 15, 2007. EPA personnel reviewed all data pertaining to the petition, including, but not limited to, well construction, well operations, regional and local geology, seismic activity, penetrations of the confining zone, and computational models of the injection zone. EPA has determined that the hydrogeological and geochemical conditions at the site and the nature of the waste streams are such that reliable predictions can be made that fluid movement conditions are such that injected fluids will not migrate out of the injection zone within 10,000 years, as set forth at 40 CFR part 148. The injection zone for the AMBH facility is composed of the lower Eau Claire Formation and Mount Simon Sandstone, between 2,180 and 4,297 feet. The confining zone at the AMBH facility is the upper Eau Claire Formation, which is found between 1,936 and 2,180 feet. The confining zone is separated from the lowermost underground source of drinking water (at a depth of 726 feet below ground level) by a sequence of permeable and less permeable sedimentary rocks, which provide additional protection from fluid migration into drinking water sources.

EPA issued a draft decision, which described the reasons for granting this exemption in more detail, a fact sheet, which summarized these reasons, and a public notice on February 19, 2010, pursuant to 40 CFR 124.10. A public meeting and a public hearing were held on March 24, 2010. The public comment period expired on April 7, 2010. The comments EPA received included questions on the evaluation, the level of certainty, and well testing. EPA has prepared a response to comments which can be viewed at the following URL: http://www.epa.gov/region5/water/uic/pubpdf/ambh_response_to_comments.pdf. A final exemption is therefore granted as proposed.

Conditions

This exemption is subject to the following conditions. Non-compliance with any of these conditions is grounds for termination of the exemption:

(1) All regulatory requirements in 40 CFR 148.23 and 148.24 are incorporated by reference;

(2) The exemption applies to the existing Spent Pickle Liquor #1, Waste Ammonia Liquor #1 and Waste Ammonia Liquor #2 injection wells, located at the AMBH facility at 250 West U.S. Highway 12, Burns Harbor, Indiana.

(3) Injection is limited to that part of the Lower Mount Simon Sandstone at depths between 2,734 and 4,297 feet.

(4) Only hazardous wastes denoted by the waste codes D010, D018, D038 and K062 may be injected. Other fluids necessary for well testing, stimulation, etc. may be injected when approved by EPA.

(5) The chemical properties of the injectate that will be monitored are limited according to the table below:

Chemical constituent or property | Concentration limitation at the well head (mg/L)
Benzene | 220 (maximum).
pH | 0 (minimum).
Chromium | 133 (maximum).
Naphthalene | 260 (maximum).
Nickel | 50 (maximum).
Phenol | 3,780 (maximum).
Pyridine | 116 (maximum).
Selenium | 5 (maximum).

(6) The chemical properties of the injectate that defined the edge of the plume in the demonstration are benzene for waste ammonia liquor and pH for the spent pickle liquor.

(7) The volume of wastes injected in any month through the wells must not exceed 92,043,000 gal (for Spent Pickle Liquor #1) and 157,788,000 gal (for Waste Ammonia Liquor #1 and Waste Ammonia Liquor #2 combined).

(8) This exemption is approved for the 21-year modeled injection period, which ends on December 31, 2027. AMBH may petition EPA for a reissuance of the exemption beyond that date, provided that a new and complete no-migration petition is received at EPA, Region 5, by July 1, 2027.

(9) AMBH shall submit monthly reports to EPA containing a fluid analysis of the injected wastes which shall include the chemical and physical properties upon which the no-migration demonstration was based, including the physical and chemical properties listed in Conditions 5 and 6 of this exemption approval.

(10) AMBH shall submit a report containing the results of a bottom hole pressure survey (fall-off test) performed on Spent Pickle Liquor No. 1, Waste Ammonia Liquor #1, or Waste Ammonia Liquor #2 to EPA annually. The survey shall be performed after shutting in the well for a period of time sufficient to allow the pressure in the injection interval to reach equilibrium, in accordance with 40 CFR 146.68(e)(1). The annual report shall include a comparison of reservoir parameters determined from the fall-off test with parameters used in the approved no-migration petition.

(11) The petitioner shall fully comply with all requirements set forth in Underground Injection Control Permits IN-127-1W-0001, IN-127-1W-0003, and IN-127-1W-0004 issued by the EPA; and

(12) Whenever EPA determines that the basis for approval of a petition may no longer be valid, EPA may terminate this exemption and require a new demonstration in accordance with 40 CFR 148.24.

Dated: September 30, 2010.
Timothy C. Henry,
Acting Director, Water Division, EPA Region 5.

[FR Doc. 2010-26911 Filed 10-22-10; 8:45 am]

BILLING CODE 6560-50-P